DEPARTMENT OF THE INTERIOR

Fish and Wildlife Service

RIN 1018-AI39

Notice of Availability; Final Environmental Impact Statement on Double-Crested Cormorant Management

AGENCY: Fish and Wildlife Service, Interior.

ACTION: Notice of availability of Final Environmental Impact Statement on double-crested cormorant management.

SUMMARY: This notice advises the public of the availability of the Final Environmental Impact Statement (FEIS) on double-crested cormorant management. The FEIS follows publication of a Draft Environmental Impact Statement (DEIS) and a proposed rule, each of which had extensive public comment periods. The FEIS analyzes the direct, indirect, and cumulative impacts related to double-crested cormorant management and provides the public with responses to comments received on the DEIS.

DATES: The period of availability for public review for the FEIS ends 30 days following publication of the EPA notice of availability in the Federal Register. After that date, we will publish a final rule and Record of Decision.

ADDRESSES: You can obtain a copy of the FEIS by writing to the Division of Migratory Bird Management, 4401 N. Fairfax Drive, MBSP-4107, Arlington, VA 22203; by emailing us at cormorants@fws.gov; or by calling us at 703/358-1714. We will also post the FEIS on our Web site at http://migratorybirds.fws.gov/issues/cormorant/cormorant.html.

FOR FURTHER INFORMATION CONTACT: Brian Millsap, Chief, Division of Migratory Bird Management, at 703/358-1714.

SUPPLEMENTARY INFORMATION: On November 8, 1999, we published a notice in the Federal Register (64 FR 60826) announcing our intent to prepare, in cooperation with the Wildlife Services program of the U.S. Department of Agriculture Animal and Plant Health Inspection Service (APHIS/WS), an Environmental Impact Statement (EIS) to address “impacts caused by population and range expansion of the double-crested cormorant [DCCO] in the contiguous United States.” The notice of intent also marked the beginning of a public scoping period. The purpose of scoping, which included 12 public meetings, was to identify significant issues to be addressed in the EIS. More than 900 people attended the public scoping meetings, with 239 providing oral comments, and over 1,450 people submitted written comments. Comments fell into two categories: issues of concern and suggested management options. Issues of concern included impacts on sport fishing, local economies, aquaculture/commercial fishing, bird species, ecological balance, vegetation, human health and safety, and private property. Management options that were suggested included controlling DCCO populations, not managing DCCOs, removing DCCOs from the protection of the Migratory Bird Treaty Act, hunting, focusing on non-lethal control, allowing State management of DCCOs, changing the permit policy, oiling eggs, giving APHIS/WS more authority, basing decisions on the best science, using population objectives, and increasing education efforts. The scoping period ended on June 16, 2000.

On December 3, 2001, we published a notice in the Federal Register announcing the availability of the DEIS for public review (66 FR 60218). This was followed by a 100-day public comment period, which included 10 public meetings. The DEIS analyzed the predicted environmental impacts of six management alternatives for addressing problems associated with increasing DCCO populations. These management alternatives were: (1) No Action, or continue current cormorant management practices (Alternative A); (2) implement only nonlethal management techniques (Alternative B); (3) expand current cormorant damage management practices (Alternative C); (4) establish a new depredation order to address public resource conflicts (Alternative D — proposed action); (5) reduce regional cormorant populations (Alternative E); and (6) establish frameworks for a cormorant hunting season (Alternative F). The biological and socioeconomic resource categories evaluated in relation to each alternative included DCCO populations, fish, other birds, vegetation, federally listed threatened and endangered species, water quality and human health, economic impacts (aquaculture and recreational fishing economies), fish hatcheries and environmental justice, property losses, and existence and aesthetic values.

We received 994 letters, faxes, and email messages commenting on the DEIS. Of the 994 letters received, 764 of these stated a preference for a specific alternative. These results were: 32.2 percent chose Alternative D (proposed action) as the best alternative; 25.8 percent chose Alternative E (population reduction); 16.9 percent chose Alternative A (No Action); 11.8 percent chose Alternative F (hunting); 11.8 percent chose Alternative B (non-lethal methods); and <1 percent chose Alternative C (increased local damage control). Our responses to significant comments can be found in Chapter 7 of the FEIS.

In response to concerns about the public resource depredation order being too broad in scope, we made two changes to the order which were subsequently described in a proposed rule published in the Federal Register on March 17, 2003 (68 FR 12653). These changes limit the public resource depredation order to 24 States (rather than the 48 originally proposed in the DEIS) and limit its applicability to land and freshwater (not saltwater). The 24 States were chosen based on locations of significant numbers of wintering, migrating, or breeding birds from the Interior and Southern DCCO populations. Saltwater areas were excluded because impacts have not been documented there.

Additionally, we changed the order so that it applied only to State fish and wildlife agencies, federally recognized Tribes, and APHIS/WS, and we expanded allowable control techniques to include egg oiling, egg and nest destruction, cervical dislocation, shooting, and CO2 asphyxiation. APHIS/WS was added since it is the chief Federal wildlife damage control agency and has considerable expertise in managing DCCOs. Control techniques were selected to include all effective and humane techniques. As stated in the proposed rule, these modifications do not constitute significant changes to the DEIS analysis and are addressed, as needed, in the FEIS.

Following publication of the proposed rule, the public had 60 days to provide comments. This comment period led to additional modifications to the proposed action, including the addition of another month for allowing roost control under the aquaculture depredation order (October to April). In compliance with Section 7 of the Endangered Species Act, we completed informal consultation and, subsequently, added conservation measures to protect bald eagles, wood storks, piping plovers, and interior least terns. These changes are considered in the FEIS analysis and will be discussed in greater detail in the final rule.

Like the DEIS, the FEIS analyzed the direct, indirect, and cumulative environmental impacts we predict would be associated with six DCCO management alternatives. The first chart below summarizes the impacts of DCCOs under the No Action alternative (i.e., the status quo), as detailed in the FEIS. The second chart below summarizes effects on the FEIS resource categories that we predicted would occur as a result of implementing the proposed action.

Alternative A: no action |
Other bird populations | Suspected conflicts and in some cases confirmed conflicts associated with habitat destruction and nest site competition; significance localized.
Fish | Suspected and in some cases confirmed conflicts; significance localized.
Vegetation/habitat | Destruction of vegetation confirmed; significance localized.
Threatened and endangered species | Suspected but not confirmed conflicts with Atlantic salmon and various Pacific salmonids; very likely, however, that other factors are more important than DCCOs in the decline of salmon.
Water quality and human health | Accused of being a source of groundwater contamination but this is not confirmed; can cause direct, open water contamination.
Aquaculture | Confirmed economic impacts on aquaculture production.
Recreational fishing economies | Correlative evidence that DCCOs are a factor behind economic declines in communities dependent on recreational fishing; not confirmed.
Fish hatcheries and justice | Confirmed depredation of hatchery stock with significance localized; effect on ability to provide hatchery fish to low-income groups not confirmed.
Property losses | Confirmed conflicts with some property interests; significance localized.
Existence and aesthetic values | Effect on values differs with perspective; DCCOs may appeal to some individual's sense of aesthetics, while not appealing to others.

Proposed action alternative D: public resource depredation order |
DCCO populations | No significant impact to regional or continental populations; estimated annual take of 159,635.
Other bird populations | Local disturbances likely, but can be managed to avoid significant impacts; will help overall.
Fish | Will help reduce predation in localized situations.
Vegetation/habitat | Will help reduce impacts in localized situations.
Threatened and endangered species | No adverse impacts with implementation of conservation measures.
Water quality and human health | Will help reduce impacts in localized situations
Aquaculture | Will help reduce depredation.
Recreational fishing economies | Not likely to benefit.
Fish hatcheries and environmental justice | Will help reduce depredation.
Property losses | Could help to indirectly reduce losses.
Existence and aesthetic values | Effects on values differs with perspective.

Dated: August 1, 2003.
Steve Williams,
Director.

[FR Doc. 03-20376 Filed 8-8-03; 8:45 am]

BILLING CODE 4310-55-P